DEPARTMENT OF AGRICULTURE

Federal Advisory Committee for the Expert Review of Synthesis and Assessment Product 4.3 (CERSAP); Establishment

AGENCY: Office of the Chief Economist, U.S. Department of Agriculture.

SUMMARY: Notice is hereby given of the creation of the Federal Advisory Committee for the Expert Review of Synthesis and Assessment Product 4.3 (CERSAP).

PURPOSE: The Department of Agriculture (USDA) is the lead agency for Climate Change Science Program Synthesis and Assessment Product 4.3 titled, The Effects of Climate Change on Agriculture, Land Resources, Water Resources, and Biodiversity. CERSAP will provide advice to the Secretary of Agriculture on the conduct of this study.

FOR FURTHER INFORMATION CONTACT: Mr. William Hohenstein, Global Change Program Office, U.S. Department of Agriculture, Room 112-A Whitten Federal Building, 1400 Independence Avenue SW., Washington, DC 20250-3810; telephone: 202-720-6698.

Authority: CERSAP is established in accordance with the provisions of the Federal Advisory Committee Act (FACA), 5 U.S.C. App. 2 section 9 (c). CERSAP supports the USDA in its participation in the interagency U.S. Climate Change Science Program, specifically in implementation of Synthesis and Assessment Product 4.3 (SAP 4.3), The Effects of Climate Change on Agriculture, Land Resources, Water Resources, and Biodiversity. The Secretary of Agriculture has determined that CERSAP is in the public interest and will support USDA in performing its duties and responsibilities.

SUPPLEMENTARY INFORMATION: CERSAP will provide advice to the Secretary of Agriculture on the conduct of a study titled, The Effects of Climate Change on Agriculture, Land Resources, Water Resources, and Biodiversity, to be conducted as part of the U.S. Climate Change Science Program. The draft report will be published at http://www.climatescience.gov/Library/sap/sap4-3/default.htm. CERSAP will provide advice on the specific issues to be addressed, appropriate technical approaches, the nature of information relevant to decision makers, the content of the final report, compliance with the Information Quality Act, and other matters important to the successful achievement of the study objectives. CERSAP will respond specifically to the following seven inquiries related to the report:

1. Are the goals, objectives, and intended audience of the product clearly described in the document? Does the product address all the questions as outlined in the prospectus?

2. Are the findings and recommendations adequately supported by evidence and analysis? If any recommendations are based on value judgments or the collective opinions of the authors, is this acknowledged and are adequate reasons given for reaching those judgments?

3. Are the data and analyses handled competently? Are statistical methods applied appropriately? Are uncertainties and confidence levels evaluated and communicated appropriately?

4. Are the document's presentation and organization effective? Are the questions outlined in the prospectus addressed and communicated in a manner that is appropriate for the intended audience?

5. Is the document scientifically objective and policy-neutral? Is it consistent with the scientific literature, including recent National Research Council reports and other scientific assessments on the same topic?

6. Does the summary concisely and accurately describe the content, key findings, and recommendations? Is it consistent with other sections of the document?

7. What significant improvements, if any, might be made in the document?

Duties: CERSAP will provide expert peer-review to SAP 4.3, according to the criteria listed above. CERSAP will generate a list of comments and suggestions to increase the merit of SAP 4.3. After SAP 4.3's authors have responded to those comments, CERSAP will review those responses to ensure that their review comments have been adequately considered and addressed.

The duties of the CERSAP are solely advisory in nature.

Official(s) To Whom CERSAP Reports: CERSAP will submit advice and report to the Secretary of Agriculture through the Director of USDA's Global Change Program Office (GCPO) within the Office of the Chief Economist (OCE).

Estimated Number and Frequency of Meetings: CERSAP expects to meet approximately two (2) times. Meetings are expected to occur when the draft report, The Effects of Climate Change on Agriculture, Land Resources, Water Resources, and Biodiversity, is initially available, and again to finalize the review document, or as needed and approved by the Designated Federal Officer (DFO). USDA may pay travel and per diem expenses when determined necessary and appropriate. A full-time or permanent part-time employee of USDA will be appointed as the DFO. The DFO or a designee will be present at all meetings and each meeting will be conducted in accordance with an agenda approved in advance by the DFO. The DFO is authorized to adjourn any meeting when he or she determines it is in the public interest to do so.

As required by FACA, CERSAP will hold open meetings unless the Secretary of Agriculture determines that a meeting or a portion of a meeting may be closed to the public in accordance with subsection c of Section 522(b) of Title 5, United States Code. Interested persons may attend meetings, appear before CERSAP as time permits, and file comments with the CERSAP.

Duration and Termination: This charter will be in effect until publication of SAP 4.3. The charter will expire upon publication of SAP 4.3, and will not be renewed.

Member Composition: CERSAP will be composed of approximately twelve (12) members. Members will be appointed by the Secretary of Agriculture through the Office of the Chief Economist. No member shall have served as an author of the draft SAP 4.3.

Most members shall be designated Special Government Employees, reflecting their selection based upon their scientific expertise in the fields of climate change effects on the ecosystems and ecosystem services investigated by SAP 4.3. Other members may be Regular Government Employees, and will have comparable expertise.

Equal opportunity practices, in line with USDA policies, will be followed in all membership appointments to CERSAP. To ensure that the recommendations of CERSAP have taken into account the needs of the diverse groups served by the Department, membership shall include, to the extent practicable, individuals with demonstrated ability to represent minorities, women, and persons with disabilities.

Subgroups: USDA, or CERSAP with USDA's approval, may form CERSAP subcommittees or workgroups for any purpose consistent with this charter. Such subcommittees or workgroups may not work independently of CERSAP and must report their recommendations and advice to the full CERSAP committee for deliberation and discussion. Subcommittees or workgroups have no authority to make decisions on behalf of the full CERSAP committee, nor can they report directly to the Secretary of Agriculture or other USDA officials.

Keith Collins,
Chief Economist,

[FR Doc. E7-4873 Filed 3-15-07; 8:45 am]

BILLING CODE 3410-01-P